DEPARTMENT OF ENERGY

Federal Energy Regulatory Commission

[Docket No. RP03-531-000]

West Texas Gas, Inc.; Notice of Gas Cost Reconciliation Report

July 2, 2003.

Take notice that on June 26, 2003, West Texas Gas, Inc. (WTG) submitted for filing its annual purchased gas cost reconciliation for the period ending April 30, 2003. Under section 19, any difference between WTG's actual purchased gas costs and its spot market-based pricing mechanism is refunded or surcharged to its two jurisdictional customers annually, with interest. WTG states that the report indicates that WTG overcollected its actual costs by $19,533 during the reporting period.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 8, 2003.

Magalie R. Salas,
Secretary.

[FR Doc. 03-18946 Filed 7-24-03; 8:45 am]

BILLING CODE 6717-01-P